DEPARTMENT OF ENERGY

Energy Information Administration

Agency Information Collection Activities: Proposed Collection; Comment Request

AGENCY: Energy Information Administration (EIA), Department of Energy (DOE).

ACTION: Agency information collection activities: proposed collection; comment request.

SUMMARY: The EIA is soliciting comments on the proposed revisions and three-year extension to Form EIA-417R, “Electric Power System Emergency Report.”

DATES: Comments must be filed on or before November 13, 2001. If you anticipate difficulty in submitting comments within that period, contact the person listed below as soon as possible.

ADDRESSES: Send comments to John W. Makens, Electric Power Division (EI-53.1), Energy Information Administration, U.S. Department of Energy, 1000 Independence Ave. SW., Washington, D.C. 20585-0690. Alternatively, Mr. Makens may be contacted by telephone at (202) 287-1749, FAX at (202) 586-1934, or e-mail at John.Makens@eia.doe.gov.

FOR FURTHER INFORMATION CONTACT: Requests for additional information or copies of forms and instructions should be directed to Mr. Makens at the address listed above. Any comments will also be shared with the DOE Program Office and reviewed by Mr. James P. Mackey, Office of Emergency Operations (SO-413), Forrestal Building, U.S. Department of Energy, Washington, DC 20585. Alternatively, Mr. Mackey may be contacted by FAX at (202) 586-3859, or e-mail at James.Mackey@hq.doe.gov.

SUPPLEMENTARY INFORMATION:

I. Background

II. Current Actions

III. Request for Comments

I. Background

The Federal Energy Administration Act of 1974 (Pub. L. 93-275, 15 U.S.C. 761 et seq.) and the Department of Energy Organization Act (Pub. L. 95-91, 42 U.S.C. 7101 et seq.) require the EIA to carry out a centralized, comprehensive, and unified energy information program. This program collects, evaluates, assembles, analyzes, and disseminates information on energy resource reserves, production, demand, technology, and related economic and statistical information. This information is used to assess the adequacy of energy resources to meet near and longer term domestic demands.

The Federal Power Act (16 U.S.C. 791a et seq.) authorizes the DOE to collect information on the generation, distribution, and transmission of electric energy. The DOE collects information on emergency situations in electric energy supply systems so that appropriate Federal emergency response measures can be implemented in a timely and effective manner.

The EIA, as part of its effort to comply with the Paperwork Reduction Act of 1995 (Pub. L. 104-13, 44 U.S.C. Chapter 35), provides the general public and other Federal agencies with opportunities to comment on collections of energy information conducted by or in conjunction with the EIA. Any comments received help the EIA to prepare data requests that maximize the utility of the information collected, and to assess the impact of collection requirements on the public. Also, the EIA will later seek approval by the Office of Management and Budget (OMB) under Section 3507(a) of the Paperwork Reduction Act of 1995.

The purpose of this Notice is to seek public comment on the revised Form EIA-417R used for reporting to DOE by the electric industry on electric emergency incidents and disturbances. The Department's Office of Emergency Operations (OEO) will use this form to obtain current information regarding emergency situations on the electric energy supply systems in the United States ¹ so that appropriate Federal emergency response and national security measures can be implemented in a timely and effective manner. EIA will also use the form to consolidate monthly statistical information about electric power emergency incidents and disturbances. Other potential data uses include the development of legislative recommendations; reports to the Congress; and coordination of Federal efforts regarding activities such as incidents/disturbances in critical infrastructure protection; continuity of electric industry operations; and the continuity of operations of the government.

¹ This includes all 50 States, District of Columbia, Puerto Rico, U.S. Virgin Islands, and the U.S. Trust Territories.

The information submitted may also be used by the Department's Office of Energy Efficiency and Renewable Energy, the Office of Policy and International Affairs, Energy Information Administration, and Office of Emergency Operations to conduct after-action investigations on significant interruptions to the reliability of electric power. This would be in accordance with Departmental authorities for such investigations in the Federal Power Act.

The Form EIA-417R was initially developed in the 1980's. Since that time many changes have occurred in the electric power industry and Government. Today's trends in the electric power industry include deregulation, competition, open markets and enterprise management systems. The Nation's role in the world's digital economy demands improved power reliability and quality that Government has a responsibility to assure. This is substantially different from 5 or 10 years ago. Information technology has (1) changed the way the Nation's business is transacted, (2) the way government operates, and (3) the way national defense is conducted. These three functions now depend on interdependent networks of physical and information infrastructures, the key one of which is reliable electric power. The Form EIA-417R reports will enable the Department to monitor electric emergency incidents and disturbances so Government may help prevent the physical or virtual disruption of the operation of any critical infrastructure.

Currently, DOE uses Form EIA-417R, “Electric Power System Emergency Report,” to monitor major system incidents on electric power systems. The information is used to meet DOE national security responsibilities and requirements contained in the Federal Response Plan. The information may also be used in developing legislative recommendations and reports to Congress.

The existing Form EIA-417R was codified under 10 CFR part 205.350-353. Upon completion of the approval process for the new form, these regulations will no longer be necessary and it is the U.S. Department of Energy's intention to rescind the regulations at that time. The authority to conduct special investigations still applies under the Federal Power Act and allows such investigations. The Department of Energy Organization Act of 1977 and the Federal Energy Administration Act of 1974 also allow such investigations.

II. Current Actions

The DOE is proposing to revise the Form EIA-417R reporting requirements. The revisions include the following changes: (1) The name and number of the form; (2) what electric emergency incidents must be reported; (3) who must report incidents; (4) the entities with whom the form must be filed; (5) how soon after an incident must the form be submitted; and (6), the data to be reported. Each revision is discussed below.

(1) The “Form EIA-417R” report number will be changed to Form EIA-417. The new designation will clearly indicated that the Form is independent of the regulations and the title will change from, “Electric Power System Emergency Report,” to “Electric Emergency Incident and Disturbance Report.” The report will still monitor major incidents on electric power systems. The title change reflects that this report represents the initial notification to the Federal Government about potential impacts of incidents on electrical system operations. In addition, the form provides for reporting an alert describing actual events that have had an impact on electrical operations. The form will be divided into Parts A and B.

(2) The proposed Form EIA-417 will shift most reporting to a simple check-off that identifies known information about an incident. In the existing form, check-off boxes are not categorized. For the proposed form, the check-off boxes are now grouped by events that describe: Type of Emergency, Cause of Incident, and Actions Taken. The respondent will mark the form to indicate all known or suspected causes. In addition, a check-off box has been added to indicate the location of a disturbance, and another box was added for the respondent to provide its tracking identification number for the incident.

(3) The Department is also proposing to reduce the number of reporting entities from over 3,300 to approximately 200 reporting entities—NERC established Control Area Operators ² (CAOs) or replacement entities, the Federal Energy Regulatory Commission established Independent System Operators (ISOs) and Regional Transmission Organizations ³ (RTOs) and the NERC established Security Coordinators ⁴. However, there are special investigations of incidents affecting the electric power industry that will be initiated by DOE, which will involve more that just CAOs, ISOs/RTOs and Security Coordinators. Any utility, business entity, or energy concern that participates in the electric power industry could be notified by DOE that it needs to provide technical information concerning a particular incident.⁵ These special investigations are infrequent and reports are released to the public.⁶ Reporting coverage for the Form EIA-417 includes all 50 States, District of Columbia, Puerto Rico, U.S. Virgin Islands, and the U.S. Trust Territories.

² There are less than 150 CAOs and with the restructuring of the Electric Power Industry the count is expected to drop. Their responsibilities for the various operations will be reassigned to a smaller count of scheduling centers and dispatch centers in the future under proposed new industry practices. This form will address these changes and the smaller number of future respondents.

³ There are currently 5 operational ISOs and 1 approved for operations. These will become RTOs under FERC Order 2000. At this time the FERC has also taken jurisdictional actions to establish the number of future RTOs at 4. (These proposed RTOs will cover the Northeast, West, South, and Midwest of the contiguous U.S.)

⁴ There are 23 Security Coordinators spread across the U.S. Many of the physical facility sites that operate or will operate the electric power industry, will handle one or more of the NERC established operational activities; so the total count of respondents will be lower.

⁵ Current authority is 10 CFR part 205.350-353. However, this is under the Federal Power Act. The Federal Energy Administration Act of 1974 (Pub. L. 93-275) and the DOE Organization Act (Pub. L. No. 95-91) provide additional authorities.

⁶ the Department of Energy has initiated three special studies about incidents that happened in the 1990s and none in the 1980s. The three studies are: The Cold Weather Snap of 1992; The Electric Power Outages in the Western United States, July 2-3, 1996 (DOE/PO-0050); and the Report of the U.S. Department of Energy's Power Outage Study Team (DOE/PO—March 2000 Final Report).

(4) The data will still be filed with the U.S. Department of Energy's Emergency Operations Center. This DOE facility operates 24 hours a-day, 7-days a week. Electronic submission is the preferred method of notification. Fax, e-mail, and telephone contract are also accepted. The information will be shared in a timely fashion with the U.S. Department of Justice (cyber threat—sabotage) and the North American Electric Reliability Council (real-time reliability operations). The proposed report is intended to reduce duplicative reporting and establish a common reporting format.

(5) For routine events and/or expectations of a problem, the timing for filing the initial report is up to 1 hour after occurrence of the event. The time estimated to complete Part A of Form EIA-417 (the alert notice) should be less than 10 minutes. When the event is having a critical impact on operational events, industry must balance its operational requirements during the incident with this mandatory 1 hour reporting requirement to the DOE. In such instances, telephonic notification to the DOE 24x7 Emergency Operations Center within 1 hour is acceptable (202 586-8100) pending submission of the written Part A notification. In light of the DOE national security and emergency responsibilities, this one hour window to report such incidents will give a timely alert notice and allow DOE to start tracking this event.

(6) In Part A, the events in the Type of Emergency check-off box categories have been expanded to include major transmission system and distribution system interruption and inadequate generation supply. For the Cause category, boxes for weather or natural disaster, inadequate electric resources to serve load, equipment failure, malicious or intentional disruption of communications and/or computer support systems, system operator action, and unknown causes have been added. The Actions Taken category has added check-off boxes to identify: (1) If interruptible load was shed; (2) if a warning alert has been released or if the respondent has implemented its contingency plan; and (3) if the electrical system has been repaired or restored. In addition, the check-off box, “Other” was added to allow the respondent to identify that something is uncertain and is also intended to cover all other events, which are too unusual, abnormal, or unforeseeable to be listed as separate items. The use of the “Other” category provides an option to address uncertainties; thereby not delaying the report. The narrative filing submitted under the Form EIA-417, Part B provides the opportunity to clarify the meaning of the mark in the “Other” check-off box.

Confidentiality

DOE will consider the entire narrative on Form EIA-417, Part B, as confidential. The requested information will provide a brief description of the incident or expected system problem and actions taken to resolve it. If released, this could affect the economic operations of various electricity markets; cause competitive harm; and/or identify concerns that could be or are being reviewed by law enforcement agencies. It is proposed that the release of any narrative information be subject to a 6-month delay to mitigate market concerns. Other portions of the narrative description will be reviewed and may be released later as part of a national summary, in which the information provided does not disclose the identity of the respondent or geographical location.

The following is the provision for confidentiality of information for data in the possession of DOE that will be applied to the data submitted in the narrative in Part B. The information contained on this form may also be made available, upon request, to another component of the Department of Energy (DOE), to any Committee of Congress, the General Accounting Office, or other Congressional agencies authorized by law to receive such information. A court of competent jurisdiction may obtain this information in response to an order.

The information contained on this form will be kept confidential and not disclosed to the public to the extent that it satisfies the criteria for exemption in the Freedom of Information Act (FOIA), 5 U.S.C. 552, the DOE regulations 10 CFR 1004.11, implementing the FOIA, and the Trade Secrets Act, 18 U.S.C. 1905.

Upon receipt of a request for this information under the FOIA, the DOE shall make a final determination whether the information is exempt from disclosure in accordance with the procedures and criteria provided in the regulations. To assist us in this determination, respondents will be asked by DOE to demonstrate to the DOE that, for example, their information contains trade secrets or commercial or financial information, whose release would be likely to cause substantial harm to their company's competitive position. A respondent's letter accompanying the submission that explains (on an element-by-element basis) the reasons why the information would be likely to cause the respondent substantial competitive harm, if released to the public, would aid in this determination. A new justification does not need to be provided each time information is submitted on the form, if the company has previously submitted a justification for that information and the justification has not changed.

III. Request for Comments

Prospective respondents and other interested parties should comment on the actions discussed in item II. The following guidelines are provided to assist in the preparation of comments.

General Issues

A. Is the proposed collection of information necessary for the proper performance of the functions of the agency and does the information have practical utility? Practical utility is defined as the actual usefulness of information to or for an agency, taking into account its accuracy, adequacy, reliability, timeliness, and the agency's ability to process the information it collects.

B. What enhancements can be made to the quality, utility, and clarity of the information to be collected?

As a Potential Respondent to the Request for Information

A. Are the instructions and definitions clear and sufficient? If not, which instructions need clarification?

B. Can the information be submitted by the due date?

C. Public reporting burden for this collection is estimated to average 10 minutes for the initial report (Part A) and 2 hours to cover any detailed reporting (Part B) that would be filed later (up to 48 hours), if required because of the on-going tracking of a significant incident. In your opinion, how accurate is this estimate?

D. The agency estimates that the only cost to a respondent is for the time it will take to complete the collection. Will a respondent incur any start-up costs for reporting, or any recurring annual costs for operation, maintenance, and purchase of services associated with the information collection?

E. What additional actions could be taken to minimize the burden of this collection of information? Such actions may involve the use of automated, electronic, mechanical, or other technological collection techniques or other forms of information technology.

F. Does any other Federal, State, or local agency collect similar information? If so, specify the agency, the data element(s), and the methods of collection.

H. Is the proposed treatment for narrative information as confidential appropriate? Is it appropriate for another data element? If so, then specify the data element(s) and provide an explanation for the proposed confidential status. Is the delayed release of information effective in addressing competitive market concerns?

As a Potential User of the Information to be Collected

A. Is the information useful at the levels of detail to be collected?

B. For what purpose(s) would the information be used? Be specific.

C. Are there alternate sources for the information and are they useful? If so, what are their weaknesses and/or strengths?

Comments submitted in response to this notice will be summarized and/or included in the request for OMB approval of the form. They also will become a matter of public record.

Statutory Authority: Section 3507(h)(1) of the Paperwork Reduction Act of 1995 (Pub. L. 104-13, 44 U.S.C. Chapter 35).

Issued in Washington, D.C., September 5, 2001.
Jay H. Casselberry,
Agency Clearance Officer, Statistics and Methods Group, Energy Information Administration.

[FR Doc. 01-22700 Filed 9-10-01; 8:45 am]

BILLING CODE 6450-01-P